DEPARTMENT OF COMMERCE

National Oceanic and Atmospheric Administration

50 CFR Parts 679 and 680

[Docket No. 080312430-91317-02]

RIN 0648-AW56

Fisheries of the Exclusive Economic Zone Off Alaska; Western Alaska Community Development Quota Program, Rockfish Program, Amendment 80 Program; Bering Sea and Aleutian Islands Area Crab Rationalization Program

AGENCY: National Marine Fisheries Service (NMFS), National Oceanic and Atmospheric Administration (NOAA), Commerce.

ACTION: Final rule.

SUMMARY: NMFS issues regulations to provide harvesting cooperatives, crab processing quota share holders, and Western Alaska Community Development Quota (CDQ) groups with the option to make intercooperative transfers, crab individual processing quota transfers, and inter-group transfers through an automated, web-based process. To facilitate web-based transfers, NMFS removes the requirement for notarized signatures for all crab non-permanent leases of individual fishing quota and individual processor quota and removes unnecessary quota share price-related questions. The purpose of this action is to reduce paperwork burdens on the fishing industry by providing the option of electronic transfer through the Internet. This action allows cooperatives, processors, and CDQ groups to shorten response time to management, market, weather, and other fishery and operational conditions and to increase harvesting and processing efficiency. This action also removes detailed description of information required on application forms from regulatory text; removes detailed NMFS mail, fax, and delivery addresses and replaces them with one paragraph stating that the form may be submitted in accordance with instructions on the form; removes outdated survey-type questions from two applications; divides one application into three separate applications; revises the NMFS Alaska Region web address; and corrects cross-references.

DATES: Effective November 6, 2009.

ADDRESSES: Electronic copies of the Regulatory Impact Review (RIR), the Final Regulatory Flexibility Analysis (FRFA), and the Categorical Exclusion prepared for this action may be obtained from the Alaska Region website at http://www.alaskafisheries.noaa.gov.

Written comments regarding the burden-hour estimates or other aspects of the collection-of-information requirements contained in this final rule may be submitted by mail to NMFS, Alaska Region, P. O. Box 21668, Juneau, AK 99802-1668, Attn: Ellen Sebastian, Records Officer; in person at NMFS, Alaska Region, 709 West 9th Street, Room 420A, Juneau, Alaska to NMFS, Alaska Region; and by e-mail to David_Rostker@omb.eop.gov, or fax to 202-395-7285.

FOR FURTHER INFORMATION CONTACT: Patsy A. Bearden, 907-586-7008.

SUPPLEMENTARY INFORMATION: NMFS manages the U.S. groundfish fisheries in the Exclusive Economic Zone off Alaska under the Fishery Management Plan for Groundfish of the Bering Sea and Aleutian Islands Management Area (BSAI FMP) and the Fishery Management Plan for Groundfish of the Gulf of Alaska (GOA FMP). The crab fisheries are managed under the Fishery Management Plan for Bering Sea/Aleutian Islands King and Tanner Crabs (Crab FMP). The BSAI FMP, GOA FMP, and Crab FMP were prepared by the North Pacific Fishery Management Council (Council) under the Magnuson-Stevens Fishery Conservation and Management Act (Magnuson-Stevens Act). Regulations implementing the FMPs appear at 50 CFR part 679 and part 680. General regulations that pertain to U.S. fisheries appear at subpart H of 50 CFR part 600.

Background

The Council has adopted and NMFS has implemented numerous management programs that allocate quota share and associated harvesting or processing privileges to qualified entities and authorize transfer of these privileges among qualified entities upon approval by NMFS. The following four programs authorize transfers of quota shares under particular circumstances -- the Western Alaska Community Development Quota (CDQ) Program, the Central GOA Rockfish Pilot Program (Rockfish Program), Amendment 80 to the Fishery Management Plan for Groundfish of the Bering Sea and Aleutian Islands Management Area (Amendment 80 Program), and the Bering Sea and Aleutian Islands Area Crab Rationalization (CR) Program.

Currently, applications for transfers must be submitted to NMFS by mail, courier, or fax. The current hard-copy application transfer process is too slow to meet operational and market demands of fishery participants. The efficacy of the current system of transfers is limited by NMFS business hours; requirements for original application documents and notarized signatures; and the lengths of time needed for application submission, approval, and receipt of permits.

To address these limitations, NMFS published a proposed rule on May 26, 2009 (74 FR 24762) that would provide harvesting cooperatives, crab processing quota share holders, and CDQ groups the option to make intercooperative transfers, crab individual processing quota transfers, and inter-group transfers through an automated, web-based process. To facilitate web-based transfers, NMFS proposed to remove the requirement for notarized signatures for all crab non-permanent leases of individual fishing quota and individual processor quota and removed unnecessary quota share price-related questions.

Electronic transfer service also benefits NMFS because this procedure reduces existing transfer processing labor needs, improves data quality, and promotes the objectives of the Government Paperwork Elimination Act. A full description of the need for this action and proposed regulatory changes is provided in the preamble to the proposed rule.

Summary of Final Rule

This rule accomplishes three broad goals. First, it reduces paperwork burdens placed on the fishing industry by providing the option for electronic transfer through the Internet. Second, it modifies the methods used to conduct transfers which allow cooperatives, processors, and CDQ groups to shorten response time to management, market, weather, and other fishery and operational conditions and increases harvesting and processing efficiency. Third, it accomplishes a variety of ''housekeeping'' revisions to the regulations which:

• Remove detailed descriptions of applications from regulatory text;

• Remove detailed NMFS mail, fax, and delivery addresses and replace them with a general, instructional paragraph pointing the participant to the form;

• Remove outdated survey-type questions from two applications;

• Divide one application into three separate applications;

• Revise the NMFS Alaska Region web address as it appears in the regulations to http://alaskafisheries.noaa.gov; and

• Correct cross-references.

NMFS published the proposed rule for this action in the Federal Register on May 26, 2009 (74 FR 24762), with a public comment period that closed June 10, 2009. NMFS received no comments. Additional information about this action can be found in the proposed rule.

Changes From the Proposed Rule

50 CFR 679.81(f) describes the application for inter-cooperative transfer of rockfish cooperative quota. Section 679.81(f)(1) describes the requirements to submit a completed application, whether non-electronic or electronic. The proposed rule did not include a current transfer requirement. The regulations at § 679.81(f)(1)(v) and (vi) currently set forth the requirement for signature of the associated rockfish processor. This requirement was overlooked and not included in the proposed rule. The final rule corrects this omission and the associated processor will continue to be included as a party to a catcher vessel sector transfer of cooperative quota.

Classification

Pursuant to Section 305(d) of the Magnuson-Stevens Act, the NMFS Acting Assistant Administrator has determined that this rule is necessary for the conservation and management of the Alaska groundfish and crab fisheries managed under the FMPs and that it is consistent with the Magnuson-Stevens Act and other applicable laws.

This final rule has been determined to be not significant for purposes of Executive Order 12866.

Final Regulatory Flexibility Analysis (FRFA)

An FRFA was prepared for this rule, as required by section 604 of the Regulatory Flexibility Act (RFA). Copies of the FRFA prepared for this final rule are available from the Alaska Region website at http://alaskafisheries.noaa.gov. The FRFA incorporates the IRFA and a summary of the analysis completed to support the action. A summary of the FRFA follows.

Why Action by the Agency is Being Considered and Objectives of, and Legal Basis for, the Rule

The FRFA describes in detail the reasons why this action is necessary, describes the objectives and legal basis for the rule, and discusses both small and non-small regulated entities to adequately characterize the fishery participants. The Magnuson-Stevens Act provides the legal basis for the rule, as discussed in this preamble. The objectives of the rule are to: (1) maintain recordkeeping and reporting requirements for the impacted programs that provide the information necessary to manage the fisheries and to enforce Federal regulations applicable to the programs, (2) reduce the time, effort, and documentation involved in the process of making quota transfers, and (3) maintain the overall economic and social goals and purpose of the programs.

Number of Small Entities to Which the Final Rule Would Apply

For purposes of an FRFA, the Small Business Administration (SBA) has established that a business involved in fish harvesting is a small business if it is independently owned and operated, not dominant in its field of operation (including its affiliates), and if it has combined annual gross receipts not in excess of $4.0 million for all its affiliated operations worldwide. A seafood processor is a small business if it is independently owned and operated, not dominant in its field of operation, and employs 500 or fewer persons on a full-time, part-time, temporary, or other basis, at all its affiliated operations worldwide.

Because the SBA does not have a size criterion for businesses that are involved in both the harvesting and processing of seafood products, NMFS has in the past applied and continues to apply SBA's fish harvesting criterion for these businesses because catcher/processors are first and foremost fish harvesting businesses. Therefore, a business involved in both the harvesting and processing of seafood products is a small business if it meets the $4.0 million criterion for fish harvesting operations. NMFS currently is reviewing its small entity size classification for all catcher/processors in the United States. However, until new guidance is adopted, NMFS will continue to use the annual receipts standard for catcher/processors. NMFS plans to issue new guidance in the near future.

The FRFA contains a more detailed description and estimate of the number of small entities to which the rule would apply.

Currently, 642 entities hold quota shares and would now be authorized to conduct transfers online. Estimates of large entities were made, based on available records of employment information on participation in processing activities in other fisheries, and analysts' knowledge of foreign ownership of vertically integrated processing companies. Of the 642 recipients of quota, 294 are estimated to be large entities, leaving 348 small entities among the directly regulated universe affected by this final rule.

Public Comments Received on the IRFA

NMFS did not receive any public comments on the IRFA or on the economic impacts of the rule.

Projected Reporting, Recordkeeping, and Other Compliance Requirements

This rule changes existing reporting, recordkeeping, or other compliance requirements by providing the convenience and flexibility offered by electronic communication technology to conduct logistically and economically efficient transfers of fishing “quota” among program operations, subject to NMFS' approval.

Comparison of Alternatives

All the directly regulated individuals would be expected to benefit from the preferred alternative, Alternative 2 (described in this rule), relative to the status quo alternative because it creates a new option to transfer quota “online” among participants within each respective management program. It is expected to reduce their reporting requirements, increase operational flexibility, enhance potential for collaboration and coordination among transferors and transferees, and provide an augmented ability to respond in a timely way to market changes. Of the two alternatives considered, status quo and this action, this action minimizes adverse economic impacts on the individuals that are directly regulated and reflects the least burdensome of management structures available, in terms of directly regulated small entities, while fully achieving the conservation and management purposes consistent with applicable statutes.

NMFS initially considered an alternative that would have required use of the online systems, rather than making them optional. NMFS rejected this alternative, because NMFS could not be certain that all entities in all impacted industry sectors are capable of submitting forms electronically. For any that are not, such a mandate would have imposed an unnecessary and disproportionate economic burden.

Small Entity Compliance Guide

The preamble to the proposed rule and this final rule serve as the small entity compliance guide required by Section 212 of the Small Business Regulatory Enforcement Fairness Act of 1996. This action does not require any additional compliance from small entities that is not described in the preamble. Copies of this final rule are available from NMFS at the following website: http://alaskafisheries.noaa.gov.

Collection-of-Information Requirements

This rule contains collection-of-information requirements subject to the Paperwork Reduction Act (PRA) and which have been approved by the Office of Management and Budget (OMB). Public reporting burden estimates per response for these requirements are listed by OMB control number.

OMB Control No. 0648-0269: 30 minutes for CDQ or PSQ Transfer Request.

OMB Control No. 0648-0514: Two hours for Application for Transfer of Crab QS, IFQ, and IPQ; this form will be removed from this collection, and the following three new forms will be added in its place. Two hours each for: Application for Transfer of Crab Individual Fishing Quota, Application for Transfer of Individual Processor Quota, Application for Transfer of Crab Quota Share and Crab Processor Quota Share; Application for Transfer of Individual Fishing Quota Between Crab Harvesting Cooperatives; and two and one half hours for Application for Annual Crab Harvester Cooperative IFQ Permit.

OMB Control No. 0648-0565: Two hours for Application to Transfer Amendment 80 Cooperative Quota.

OMB Control No. 0648-0545: Two hours for Application for Inter-cooperative Transfer of Rockfish Quota Share.

Public reporting estimates include the time for reviewing instructions, searching existing data sources, gathering and maintaining the data needed, and completing and reviewing the collection-of-information.

Send comments on these or any other aspects of the collection-of-information to NMFS Alaska Region (see ADDRESSES) and e-mail to David_Rostker@omb.eop.gov, or fax to 202-395-7285.

Notwithstanding any other provision of the law, no person is required to respond to, nor shall any person be subject to a penalty for failure to comply with, a collection-of-information subject to the requirements of the PRA, unless that collection-of-information displays a currently valid OMB Control Number.

List of Subjects in 50 CFR Parts 679 and 680

Alaska, Fisheries, Recordkeeping and reporting requirements.

Dated: October 1, 2009
John Oliver,
Deputy Assistant Administrator for Operations, National Marine Fisheries Service.

For the reasons set out in the preamble, 50 CFR parts 679 and 680 are amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.5, revise paragraph (n)(1) to read as follows:

§ 679.5 Recordkeeping and reporting (R&R).

* * * * *

(n) * * *

(1) CDQ or PSQ transfer. NMFS will process a request for CDQ or PSQ transfer between CDQ groups provided that the requirements of this paragraph are met.

(i) Completed application. A paper or electronic request form must be completed with all information fields accurately filled in by transferors and transferees, and all required additional documentation must be attached.

(ii) Certification of transferor—(A) Non-electronic submittal. The transferor's designated representative must sign and date the application certifying that all information is true, correct, and complete. The transferor's designated representative must submit the paper application as indicated on the application.

(B) Electronic submittal. The transferor's designated representative must log into the system and create a transfer request as indicated on the computer screen. By using the transferor's NMFS ID, password, and Transfer Key and submitting the transfer request, the designated representative certifies that all information is true, correct, and complete.

(iii) Certification of transferee—(A) Non-electronic submittal. The transferee's designated representative must sign and date the application certifying that all information is true, correct, and complete.

(B) Electronic submittal. The transferee's designated representative must log into the system and create a transfer request as indicated on the computer screen. By using the transferee's NMFS ID, password, and Transfer Key and submitting the transfer request, the designated representative certifies that all information is true, correct, and complete.

* * * * *

3. In § 679.81, add paragraph (e)(1)(iv); and revise paragraphs (e)(2) and (f) to read as follows:

§ 679.81 Rockfish Program annual harvester and processor privileges.

* * * * *

(e) * * *

(1) * * *

(iv) Electronic: http://alaskafisheries.noaa.gov.

(2) Application forms. Application forms are available on the NMFS Alaska Region website at http://alaskafisheries.noaa.gov, or by contacting NMFS at 800-304-4846, Option 2.

* * * * *

(f) Application for inter-cooperative transfer of cooperative quota (CQ)—(1) Completed application. NMFS will process an application for inter-cooperative transfer of cooperative quota (CQ) provided that a paper or electronic online transfer application is completed by the transferor and transferee, with all applicable fields accurately filled-in, and all required additional documentation is attached.

(2) Certification of transferor—(i) Non-electronic submittal. The transferor's designated representative and the eligible rockfish processor with whom that rockfish cooperative in the catcher vessel sector is associated must sign and date the application certifying that all information is true, correct, and complete. The transferor's designated representative must submit the paper application as indicated on the application.

(ii) Electronic submittal. (A) The transferor's designated representative must log into the system and create a transfer request as indicated on the computer screen. By using the transferor's NMFS ID, password, and Transfer Key and submitting the transfer request, the designated representative certifies that all information is true, correct, and complete.

(B) (Catcher vessel transfer to catcher vessel only) The transferor's eligible rockfish processor must log into the system and accept the transfer request. By using the processor's NMFS ID, password, and Transfer Key, the designated representative certifies that all information is true, correct, and complete.

(3) Certification of transferee—(i) Non-electronic submittal. The transferee's designated representative and the eligible rockfish processor with whom that rockfish cooperative in the catcher vessel sector is associated must sign and date the application certifying that all information is true, correct, and complete.

(ii) Electronic submittal

(A) (Catcher vessel transfer to catcher vessel or catcher/processor transfer to catcher vessel only) The transferee's eligible rockfish processor must log into the system and accept the transfer request. By using the processor's NMFS ID, password, and Transfer Key, the designated representative certifies that all information is true, correct, and complete.

(B) The transferee must log into the system and accept the transfer request. By using the transferee's NMFS ID, password, and Transfer Key, the designated representative certifies that all information is true, correct, and complete.

* * * * *

4. In § 679.91, add paragraph (b)(1)(iv); and revise paragraphs (b)(2) and (g) to read as follows:

§ 679.91 Amendment 80 Program annual harvester privileges.

* * * * *

(b) * * *

(1) * * *

(iv) Electronic: http://alaskafisheries.noaa.gov.

(2) Application forms. Application forms are available on the NMFS Alaska Region website at http://alaskafisheries.noaa.gov, or by contacting NMFS at 800-304-4846, Option 2.

* * * * *

(g) Application for inter-cooperative transfer of Amendment 80 CQ—(1) Completed application. NMFS will process an application for inter-cooperative transfer of Amendment 80 cooperative quota (CQ) provided that a paper or electronic application is completed by the transferor and transferee, with all applicable fields accurately filled in, and all required additional documentation is attached.

(2) Amendment 80 species CQ assignment. Amendment 80 species CQ must be assigned to a member of the Amendment 80 cooperative receiving the CQ for purposes of use cap calculations. No member of an Amendment 80 cooperative may exceed the CQ use cap applicable to that member.

(3) Total amount of Amendment 80 species CQ. For purposes of Amendment 80 species CQ use cap calculations, the total amount of Amendment 80 species CQ held or used by a person is equal to all metric tons of Amendment 80 species CQ derived from all Amendment 80 QS units on all Amendment 80 QS permits held by that person and assigned to the Amendment 80 cooperative and all metric tons of Amendment 80 species CQ assigned to that person by the Amendment 80 cooperative from approved transfers.

(4) Amendment 80 QS units. The amount of Amendment 80 QS units held by a person, and CQ derived from those Amendment 80 QS units, is calculated using the individual and collective use cap rule established in § 679.92(a).

(5) Certification of transferor—(i) Non-electronic submittal. The transferor's designated representative must sign and date the application certifying that all information is true, correct, and complete. The transferor's designated representative must submit the paper application as indicated on the application.

(ii) Electronic submittal. The transferor's designated representative must log into the system and create a transfer request as indicated on the computer screen. By using the transferor's NMFS ID, password, and Transfer Key and submitting the transfer request, the designated representative certifies that all information is true, correct, and complete.

(6) Certification of transferee—(i) Non-electronic submittal. The transferee's designated representative must sign and date the application certifying that all information is true, correct, and complete.

(ii) Electronic submittal. The transferee's designated representative must log into the system and accept the transfer request as indicated on the computer screen. By using the transferee's NMFS ID, password and Transfer Key, the designated representative certifies that all information is true, correct, and complete.

* * * * *

PART 680—SHELLFISH FISHERIES OF THE EXCLUSIVE ECONOMIC ZONE OFF ALASKA

5. The authority citation for part 680 continues to read as follows:

Authority: 16 U.S.C. 1862; Pub. L. 109-241; Pub. L. 109-479.

6. In § 680.5, revise paragraphs (a)(2)(i)(G), (g)(1), and (g)(2) to read as follows:

§ 680.5 Recordkeeping and reporting (R&R).

(a) * * *

(2) * * *

(i) * * *

Recordkeeping and reporting report | Person responsible | Reference
* * * * * |  |
(G) CR Crab Landing Report | RCR | § 679.5(e)
* * * * * |  |

* * * * *

(g) * * *

(1) Applicability. An RCR or the RCR's authorized representative, who receives any CR crab pursuant to § 680.44 must submit to NMFS online a complete RCR fee form as instructed on the form at NMFS Alaska Region website at http://alaskafisheries.noaa.gov.

(2) Due date and submittal. The reporting period of the RCR fee submission shall be the crab fishing year. An RCR must submit any crab cost recovery fee liability payment(s) and the RCR fee submission form to NMFS online not later than July 31 following the crab fishing year in which the CR crab landings were made.

* * * * *

7. In § 680.20, add paragraph (a)(3); and revise paragraphs (d)(3), (d)(4), (e)(5), (f)(4)(ii)(B), (g)(2)(viii)(C)(2), and (h)(6) introductory text to read as follows:

§ 680.20 Arbitration System.

(a) * * *

(3) Document submittal information. Submit documents and reports to NMFS as follows: by mail to the Regional Administrator, NMFS, P.O. Box 21668, Juneau, AK 99802; by courier to NMFS, 709 West 9th Street, Juneau, AK 99801; or by fax to 907-586-7465.

* * * * *

(d) * * *

(3) An Arbitration Organization, with members who are QS or PQS holders, must submit a complete Annual Arbitration Organization Report to NMFS in accordance with paragraph (a)(3) of this section by August 20, 2005, for the crab fishing year beginning on July 1, 2005, and by May 1 of each subsequent year for the crab fishing year beginning on July 1 of that year.

(4) An Arbitration Organization, with members who are IFQ or IPQ holders, must submit a complete Annual Arbitration Organization Report to NMFS in accordance with paragraph (a)(3) of this section by not later than 15 days after the issuance of IFQ and IPQ for that crab QS fishery.

(e) * * *

(5) Notification to NMFS. Not later than June 1 for that crab fishing year, except as provided in paragraph (e)(6) of this section, the Arbitration Organizations representing the holders of Arbitration QS and PQS in each fishery shall notify NMFS of the persons selected as the Market Analyst, Formula Arbitrator, and Contract Arbitrator(s) for the fishery in accordance with paragraph (a)(3) of this section.

* * * * *

(f) * * *

(4) * * *

(ii) * * *

(B) NMFS Alaska Region in accordance with paragraph (a)(3) of this section; and

* * * * *

(g) * * *

(2) * * *

(viii) * * *

(C) * * *

(2) NMFS in accordance with paragraph (a)(3) of this section; and

* * * * *

(h) * * *

(6) Information provided to NMFS. The Contract Arbitrator must provide any information, documents, or data required under this paragraph to NMFS in accordance with paragraph (a)(3) of this section not later than 30 days prior to the end of the crab fishing year for which the open negotiation or arbitration applied. The contract with the Contract Arbitrator must specify that the Contract Arbitrator provide NMFS with:

* * * * *

8. In § 680.21, revise paragraph (f) to read as follows:

§ 680.21 Crab harvesting cooperatives.

* * * * *

(f) Application for transfer of crab harvesting cooperative IFQ—(1) Completed application. NMFS will process an application for transfer of crab harvesting cooperative individual fishing quota (IFQ) provided that a paper or electronic request form is completed by the applicant, with all applicable fields accurately filled in, and all required additional documentation is attached.

(2) Certification of transferor—(i) Non-electronic submittal. The transferor's designated representative must sign and date the application certifying that all information is true, correct, and complete. The transferor's designated representative must submit the paper application as indicated on the application.

(ii) Electronic submittal. The transferor's designated representative must log into the system and create a transfer request as indicated on the computer screen. By using the transferor's NMFS ID, password, and Transfer Key and submitting the transfer request, the designated representative certifies that all information is true, correct, and complete.

(3) Certification of transferee—(i) Non-electronic submittal. The transferee's designated representative must sign and date the application certifying that all information is true, correct, and complete.

(ii) Electronic submittal. The transferee's designated representative must log into the system and accept the transfer request as indicated on the computer screen. By using the transferee's NMFS ID, password, and Transfer Key, the designated representative certifies that all information is true, correct, and complete.

(4) Submittal information. An application for transfer of crab harvesting cooperative IFQ crab QS or PQS may be submitted to NMFS as instructed on the application. Forms are available on the NMFS Alaska Region website at http://alaskafisheries.noaa.gov, or by contacting NMFS at 800-304-4846, Option 2.

* * * * *

9. In § 680.40, revise the section heading, paragraph (f) heading, and paragraph (f)(1)(ii) to read as follows:

§ 680.40 Crab Quota Share (QS), Processor QS (PQS), Individual Fishing Quota (IFQ), and Individual Processor Quota (IPQ) Issuance.

* * * * *

(f) Application for crab QS or PQS.

(1) * * *

(ii) An application for crab QS or PQS may be submitted to NMFS as instructed on the application. Forms are available on the NMFS Alaska Region website at http://alaskafisheries.noaa.gov, or by contacting NMFS at 800-304-4846, Option 2.

* * * * *

10. In § 680.41, revise paragraphs (b) and (h) to read as follows:

§ 680.41 Transfer of QS, PQS, IFQ and IPQ.

* * * * *

(b) Transfer applications—(1) Application. An application is required to transfer any amount of QS, PQS, IFQ, or IPQ. A transfer application will not be approved until the necessary eligibility application has been submitted and approved by NMFS in accordance with paragraph (c) of this section. The Regional Administrator will not approve any transfers of QS, PQS, IFQ, or IPQ in any crab QS fishery from August 1 until the date of the issuance of IFQ or IPQ for that crab QS fishery.

(2) Notification of application approval or disapproval. Persons submitting any application for approval under § 680.41 will receive notification of the Regional Administrator's decision to approve or disapprove the application, and if applicable, the reason(s) for disapproval.

(3) Reasons for disapproval. Reasons for disapproval of an application include, but are not limited to:

(i) Lack of U.S. citizenship, where U.S. citizenship is required;

(ii) Failure to meet minimum requirements for sea time as a member of a harvesting crew;

(iii) An incomplete application, including fees and an EDR, if required;

(iv) An untimely application; or

(v) Fines, civil penalties, or other payments due and owing, or outstanding permit sanctions resulting from Federal fishery violations.

(4) QS, PQS, IFQ, or IPQ accounts. (i) QS, PQS, IFQ, or IPQ accounts affected by a transfer approved by the Regional Administrator will change on the date of approval.

(ii) For non-electronic submittals, any necessary IFQ or IPQ permits will be sent with the notification of approval if the receiver of the IFQ or IPQ permit has completed an annual application for crab IFQ or IPQ permit for the current fishing year as required under § 680.4.

(iii) For electronic submittals, the parties to the transfer would access and print approvals and permits online.

(5) Submittal. Submit applications and other documents to NMFS as instructed on the application. Forms are available on the NMFS Alaska Region website at http://alaskafisheries.noaa.gov, or by contacting NMFS at: 800-304-4846, Option 2.

* * * * *

(h) Applications for transfer—(1) Application for transfer of crab IFQ. NMFS will process a request for transfer of crab individual fishing quota (IFQ) provided that a paper application is completed, with all information fields accurately filled in, and all required additional documentation is attached. The transferor's and the transferee's designated representatives must sign and date the application certifying that all information is true, correct, and complete. The transferor's designated representative must submit the paper application as indicated on the application.

(2) Application for transfer of crab IPQ—(i) Completed application. NMFS will process a request for transfer of crab individual processor quota (IPQ) provided that a paper or electronic request form is completed, with all information fields accurately filled in, and all required additional documentation is attached.

(ii) Certification of transferor—(A) Non-electronic submittal. The transferor's designated representative must sign and date the application certifying that all information is true, correct, and complete. The transferor's designated representative must submit the paper application as indicated on the application.

(B) Electronic submittal. The transferor's designated representative must log into the system and create a transfer request as indicated on the computer screen. By using the transferor's NMFS ID, password, and Transfer Key and submitting the transfer request, the designated representative certifies that all information is true, correct, and complete.

(iii) Certification of transferee—(A) Non-electronic submittal. The transferee's designated representative must sign and date the application certifying that all information is true, correct, and complete.

(B) Electronic submittal. The transferee's designated representative must log into the system and accept the transfer request as indicated on the computer screen. By using the transferee's NMFS ID, password and Transfer Key and submitting the transfer request, the designated representative certifies that all information is true, correct, and complete.

(3) Application for transfer of crab QS or PQS. NMFS will process a request for transfer of crab quota share (QS) or crab processor quota share (PQS) provided that a paper request form is completed and notarized, with all information fields accurately filled in, and all required additional documentation is attached. The transferor's and the transferee's designated representatives must sign and date the application certifying that all information is true, correct, and complete.

* * * * *

11. In § 680.44, revise paragraph (a)(4)(iii) to read as follows:

§ 680.44 Cost recovery.

(a) * * *

(4) * * *

(iii) Payment address. Submit payment and related documents as instructed on the fee form; payments may also be submitted electronically to NMFS. Forms are available on the NMFS Alaska Region website at http://alaskafisheries.noaa.gov, or by contacting NMFS at: 800-304-4846, Option 2.

* * * * *

[FR Doc. E9-24217 Filed 10-6-09; 8:45 am]

BILLING CODE 3510-22-S